ENVIRONMENTAL PROTECTION AGENCY

40 CFR Part 51

[EPA-HQ-OAR-2010-0114; FRL-9908-99-OAR]

RIN 2060-AQ01

Revisions To Test Methods and Testing Regulations; Technical Amendment

AGENCY: Environmental Protection Agency (EPA).

ACTION: Final rule; technical amendment.

SUMMARY: The Environmental Protection Agency (EPA) published a final rule in the Federal Register on February 27, 2014, that made technical and editorial corrections for source testing of emissions and operations. The revisions will improve data quality and provide additional flexibility by allowing the use of newly approved alternative procedures. The purpose of this action is to correct an omission to Method 202.

DATES: This technical amendment is effective on April 2, 2014.

FOR FURTHER INFORMATION CONTACT: Ms. Lula H. Melton, U.S. Environmental Protection Agency, Office of Air Quality Planning and Standards, Air Quality Assessment Division, Measurement Technology Group (E143-02), Research Triangle Park, North Carolina 27711; telephone number: (919) 541-2910; fax number: (919) 541-0516; email address: melton.lula@epa.gov.

SUPPLEMENTARY INFORMATION:

I. Summary of Amendment

This action corrects a publication error for Method 202. Two paragraphs, namely 11.2.1.1 and 11.2.1.2, were inadvertently omitted from Method 202 in the promulgated rule. This action inserts paragraphs 11.2.1.1 and 11.2.1.2 and adds a transition statement in paragraph 11.2.1 that indicates if the sample was collected by Method 202, extract the CPM filter as indicated in paragraphs 11.2.1.1 and 11.2.1.2.

Section 553 of the Administrative Procedure Act (APA), 5 U.S.C. 553(b)(3)(B), provides that, when an agency for good cause finds that notice and public procedure are impracticable, unnecessary, or contrary to the public interest, the agency may issue a rule without providing notice and an opportunity for public comment. We have determined that there is good cause for making this technical amendment final without prior proposal and opportunity for public comment because only simple publication errors are being corrected that do not substantially change the agency actions taken in the final rule. Thus, notice and public procedure are unnecessary. We find that this constitutes good cause under 5 U.S.C. 553(b)(3)(B). (See also the final sentence of section 307(d)(1) of the Clean Air Act (CAA), 42 U.S.C. 307(d)(1), indicating that the good cause provisions in subsection 553(b) of the APA continue to apply to this type of rulemaking under section 307(d) of the CAA.)

II. Statutory and Executive Order Reviews

Under Executive Order 12866, Regulatory Planning and Review, and Executive Order 13563, Improving Regulation and Regulatory Review (58 FR 51735, October 4, 1993), this action is not a “significant regulatory action” and is, therefore, not subject to review by the Office of Management and Budget. This action is not a “major rule” as defined by 5 U.S.C. 804(2). The technical amendment does not impose an information collection burden under the provisions of the Paperwork Reduction Act of 1995 (44 U.S.C. 3501 et seq.).

Because the EPA has made a “good cause” finding that this action is not subject to notice and comment requirements under the APA or any other statute (see Section I), it is not subject to the regulatory flexibility provisions of the Regulatory Flexibility Act [5 U.S.C. 601 et seq.], or to sections 202 and 205 of the Unfunded Mandates Reform Act of 1995 (UMRA) [Pub. L. 104-4]. In addition, this action does not significantly or uniquely affect small governments or impose a significant intergovernmental mandate, as described in sections 203 and 204 of the UMRA.

This action also does not significantly or uniquely affect the communities of tribal governments, as specified by Executive Order 13175, Consultation and Coordination With Indian Tribal Governments (65 FR 67249, November 9, 2000). This amendment also is not subject to Executive Order 13045, Protection of Children From Environmental Health and Safety Risks (62 FR 19885, April 23, 1997) because it is not economically significant.

This technical amendment does not involve changes to the technical standards related to test methods or monitoring requirements; thus, the requirements of section 12(d) of the National Technology Transfer and Advancement Act of 1995 (15 U.S.C. 272) do not apply.

This technical amendment does not involve special consideration of environmental justice-related issues as required by Executive Order 12898, Federal Actions To Address Environmental Justice in Minority Populations and Low-Income Populations (59 FR 7629, February 16, 1994).

The Congressional Review Act (CRA), 5 U.S.C. 801 et seq., as added by the Small Business Regulatory Enforcement Fairness Act of 1996 (SBREFA), generally provides that before a rule may take effect, the agency determination promulgating the rule must submit a rule report, which includes a copy of the rule, to each House of the Congress and to the Comptroller General of the United States. Section 808 allows the issuing agency to make a rule effective sooner than otherwise provided by the CRA if the agency makes a good cause finding that notice and public procedure is impracticable, unnecessary, or contrary to the public interest. This determination must be supported by a brief statement, 5 U.S.C. 808(2). As stated previously, the EPA has made such a good cause finding, including the reasons, and therefore established an effective date of April 2, 2014. The EPA will submit a report containing this final action and other required information to the U.S. Senate, the U.S. House of Representatives, and the Comptroller General of the United States prior to publication of this action in the Federal Register. This action is not a “major” rule as defined by 5 U.S.C. 804(2). This action will be effective April 2, 2014.

This technical amendment does not have substantial direct effects on the states, or on the relationship between the national government and the states, or on the distribution of power and responsibilities among the various levels of government, as specified in Executive Order 13132, Federalism (64 FR 43255, August 10, 1999).

This technical amendment is not subject to Executive Order 13211, Actions Concerning Regulations That Significantly Affect Energy Supply, Distribution, or Use (66 FR 28355, May 22, 2001) because this action is not a significant regulatory action under Executive Order 12866.

List of Subjects in 40 CFR Parts 51

Air pollution control, Environmental protection, Performance specifications, and Test methods and procedures.

Dated: March 24, 2014.
Janet G. McCabe,
Acting Assistant Administrator.

For the reasons stated in the preamble, title 40, chapter I of the Code of Federal Regulations is amended as follows:

PART 51—REQUIREMENTS FOR PREPARATION, ADOPTION, AND SUBMITTAL OF IMPLEMENTATION PLANS

1. The authority citation for part 51 continues to read as follows:

Authority: 42 U.S.C. 7401, et seq.

2. Amend appendix M to part 51 under 11.0 Analytical Procedures by revising paragraph 11.2.1 and adding paragraphs 11.2.1.1 and 11.2.1.2 to read as follows:

Appendix M to Part 51—Recommended Test Methods for State Implementation Plans

* * * * *

11.2.1 Container #3, CPM Filter Sample. If the sample was collected by Method 17 or Method 201A with a stack temperature below 30 °C (85 °F), transfer the filter and any loose PM from the sample container to a tared glass weighing dish. (See Section 3.0 for a definition of constant weight.) Desiccate the sample for 24 hours in a desiccator containing anhydrous calcium sulfate. Weigh to a constant weight and report the results to the nearest 0.1 mg. [Note: In-stack filter samples collected at 30 °C (85 °F) may include both filterable insoluble particulate and condensable particulate. The nozzle and front half wash and filter collected at or below 30 °C (85 °F) may not be heated and must be maintained at or below 30 °C (85 °F).] If the sample was collected by Method 202, extract the CPM filter as follows:

11.2.1.1 Extract the water soluble (aqueous or inorganic) CPM from the CPM filter by folding the filter in quarters and placing it into a 50-ml extraction tube. Add sufficient deionized, ultra-filtered water to cover the filter (e.g., 10 ml of water). Place the extractor tube into a sonication bath and extract the water-soluble material for a minimum of two minutes. Combine the aqueous extract with the contents of Container #1. Repeat this extraction step twice for a total of three extractions.

11.2.1.2 Extract the organic soluble CPM from the CPM filter by adding sufficient hexane to cover the filter (e.g., 10 ml of hexane). Place the extractor tube into a sonication bath and extract the organic soluble material for a minimum of two minutes. Combine the organic extract with the contents of Container #2. Repeat this extraction step twice for a total of three extractions.

* * * * *

[FR Doc. 2014-07238 Filed 4-1-14; 8:45 am]

BILLING CODE 6560-50-P